DEPARTMENT OF TRANSPORTATION

Maritime Administration

[Docket No. MARAD 2014-0041]

Request for Comments of a Previously Approved Information Collection

AGENCY: Maritime Administration (MARAD).

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on November 29, 2013 (Federal Register 71713, Vol. 78, No. 230).

DATES: Comments must be submitted on or before April 14, 2014.

FOR FURTHER INFORMATION CONTACT: Michael Romstadt, Training Instructor (Firefighting), Maritime Administration, 1200 New Jersey Avenue SE., W28-302, Washington, DC 20590; Telephone (419) 259-6362 or email: michael.romstadt@dot.gov.

SUPPLEMENTARY INFORMATION:

Title: Supplementary Training Course Application.

OMB Control Number: 2133-0030.

Type of Request: Renewal of a Previously Approved Information Collection.

Abstract: Section 1305(a) of the Maritime Education and Training Act of 1980 indicates that the Secretary of Transportation may provide maritime-related training to merchant mariners of the United States and to individuals preparing for a career in the merchant marine of the United States. Also, the U.S. Coast Guard requires a firefighting certificate for U.S. merchant marine officers. This collection provides the information necessary for the maritime schools to plan their course offerings and for applicants to complete their certificate requirements.

Affected Public: U.S. Merchant Marine Seamen, both officers and unlicensed personnel, and other U.S. citizens employed in other areas of waterborne commerce.

Estimated Number of Respondents: 500.

Estimated Number of Responses: 500.

Annual Estimated Total Annual Burden Hours: 25.

Addresses: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Dated: March 10, 2014.
Julie P. Agarwal,
Secretary, Maritime Administration.

[FR Doc. 2014-05692 Filed 3-13-14; 8:45 am]

BILLING CODE 4910-81-P